DEPARTMENT OF TRANSPORTATION

Federal Aviation Administration

14 CFR Part 97

[Docket No. 30188; Amdt. No. 2009]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on September 1, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective October 5, 2000

Gulkana, AK, Gulkana, RNAV RWY 14, Orig

Gulkana, AK, Gulkana, RNAV RWY 32, Orig

Phoenix, AZ, Phoenix Sky Harbor Intl, ILS RWY 7R, Orig

Phoenix, AZ, Phoenix Sky Harbor Intl, ILS RWY 25L, Orig

Phoenix, AZ, Phoenix Sky Harbor Intl, RNAV RWY 7L, Orig

Phoenix, AZ, Phoenix Sky Harbor Intl, RNAV RWY 8, Orig

Phoenix, AZ, Phoenix Sky Harbor Intl, RNAV RWY 26, Orig

Phoenix, AZ, Phoenix Sky Harbor Intl, RNAV RWY 25R, Orig

Phoenix, AZ, Phoenix Sky Harbor Intl, GPS RWY 26R, Orig, CANCELLED

Phoenix, AZ, Phoenix Sky Harbor Intl, GPS RWY 26L, Orig, CANCELLED

Phoenix, AZ, Phoenix Sky Harbor Intl, GPS RWY 8R, Orig, CANCELLED

Phoenix, AZ, Phoenix Sky Harbor Intl, GPS RWY 8L, Orig-A, CANCELLED

Phoenix, AZ, Williams Gateway, RNAV RWY 12C, Orig

Phoenix, AZ, Williams Gateway, RNAV RWY 12R, Orig

Phoenix, AZ, Williams Gateway, RNAV RWY 30L, Orig

Fresno, CA, Fresno Yosemite Intl, VOR/DME OR TACAN RWY 29R, Orig

Fresno, CA, Fresno Yosemite Intl, LOC RWY 11L, Orig

Fresno, CA, Fresno Yosemite Intl, LOC BC RWY 11L, Amdt 8A, CANCELLED

Fresno, CA, Fresno Yosemite Intl, NDB RWY 29R, Amdt 24

Fresno, CA, Fresno Yosemite Intl, ILS RWY 29R, Amdt 34

Sacramento, CA, McClellan Airfield, VOR/DME OR TACAN RWY 16, Orig

Sacramento, CA, McClellan Airfield, VOR/DME OR TACAN RWY 34, Orig

Sacramento, CA, McClellan Airfield, ILS RWY 16, Orig

Holyoke, CO, Holyoke, NDB RWY 17, Amdt 1A, CANCELLED

Holyoke, CO, Holyoke, NDB RWY 35, Amdt 1A, CANCELLED

Holyoke, CO, Holyoke, GPS RWY 17, Orig-A, CANCELLED

Holyoke, CO, Holyoke, GPS RWY 35, Orig, CANCELLED

Cocoa, FL, Merritt Island, NDB RWY 11, Amdt 1, CANCELLED

Cocoa, FL, Merritt Island, GPS RWY 11, Amdt 1, CANCELLED

Jacksonville, FL, Jacksonville Intl, ILS RWY 13, Amdt 6

Jacksonville, FL, Jacksonville Intl, ILS RWY 25, Amdt 1

Jacksonville, Fl, Jacksonville Intl, RNAV RWY 7, Orig

Jacksonville, FL, Jacksonville Intl, RNAV RWY 13, Orig

Jacksonville, FL, Jacksonville Intl, RNAV RWY 25, Orig

Ocala, FL, Ocala Regional/Jim Taylor Field, RNAV RWY 18, Orig

Ocala, FL, Ocala Regional/Jim Taylor Field, GPS RWY 18, Orig, CANCELLED

Ocala, FL, Ocala Regional/Jim Taylor Field, GPS RWY 36, Orig, CANCELLED

Ocala, FL, Ocala Regional/Jim Taylor Field, RNAV RWY 36, Orig

Merritt Island, FL, Merritt Island, NDB RWY 11, Orig

Merritt Island, FL, Merritt Island, RNAV RWY 11, Orig

Vero Beach, FL, Vero Beach Muni, RNAV RWY 11R, Orig

Vero Beach, FL, Vero Beach Muni, RNAV RWY 29L, Orig

Estherville, IA, Estherville Muni, RNAV RWY 16, Orig

Estherville, IA, Estherville Muni, RNAV RWY 34, Orig

Mason City, IA, Mason City Muni, VOR/DME RNAV OR GPS RWY 30, Amdt 5, CANCELLED

Mason City, IA, Mason City, Muni, RNAV RWY 30, Orig

Hailey, ID, Friedman Memorial, GPS RWY 31, Orig-A, CANCELLED

Hailey, ID, Friedman Memorial, RNAV RWY 31, Orig

Winamac, IN, Arens Field, RNAV RWY 9, Orig

Winamac, IN, Arens Field, RNAV RWY 27, Orig

Cumberland, MD, Greater Cumberland Regional, RNAV RWY 5, Orig

Princeton, ME, Princeton Muni, VOR OR GPS RWY 15, Amdt 10, CANCELLED

Princeton, ME, Princeton Muni, RNAV RWY 15, Orig

Ionia, MI, Ionia County, RNAV RWY 27, Orig

Marlette, MI, Marlette, RNAV RWY 9, Orig

Marlette, MI, Marlette, RNAV RWY 27, Orig

Troy, MI, Oakland/Troy, GPS RWY 9, Orig, CANCELLED

Troy, MI, Oakland,Troy, RNAV RWY 9, Orig

Pine River, MN, Pine River Regional, RNAV RWY 34, Orig

Grand Island, NE, Central Nebraska Regional, RNAV RWY 13, Orig

Grand Island, NE, Central Nebraska Regional, RNAV RWY 17, Orig

Grand Island, NE, Central Nebraska Regional, RNAV RWY 31, Orig

Grand Island, NE, Central Nebraska Regional, RNAV RWY 35, Orig

Norfolk, NE, Karl Stefan Memorial, GPS RWY 1, Orig, CANCELLED

Norfolk, NE, Karl Stefan Memorial, RNAV RWY 1, Orig

Norfolk, NE, Karl Stefan Memorial, RNAV RWY 19, Orig

Norfolk, NE, Karl Stefan Memorial, RNAV RWY 13, Orig

Norfolk, NE, Karl Stefan Memorial, RNAV RWY 31, Orig

Valentine, NE, Miller Field, RNAV RWY 32, Orig

Valentine, NE, Miller Field, GPS RWY 32, Orig, CANCELLED

Wayne, NE, Wayne Muni, RNAV RWY 17, Orig

Wayne, NE, Wayne Muni, RNAV RWY 35, Orig

Plattsburgh, NY, Plattsburgh Intl, VOR/DME RWY 35, Orig

Plattsburgh, NY, Plattsburgh Intl, ILS RWY 17, Orig

Rome, NY, Griffiss Airpark, ILS RWY 15, Orig

Rome, NY, Griffiss Airpark, ILS RWY 33, Orig

Rome, NY, Griffiss Airpark, VOR/DME RWY 15, Orig

Rome, NY, Griffiss Airpark, VOR/DME RWY 33, Orig

Cincinnati, OH, Cincinnati Muni Airport-Lunken Field, NDB OR GPS RWY 21L, Amdt 15

Cincinnati, OH, Cincinnati Muni Airport-Lunken Field, NDB OR GPS RWY 25, Amdt 9

Cincinnati, OH, Cincinnati Muni Airport-Lunken Field, ILS RWY 21L, Amdt 17

Scappoose, OR, Scappoose Industrial Airpark, VOR/DME OR GPS-A, Amdt 2

Rapid City, SD, Rapid City Regional, RNAV RWY 32, Orig

Somerville, TN, Fayette County, RNAV RWY 19, Orig

Anahuac, TX, Chambers County, RNAV RWY 12, Orig

Anahuac, TX, Chambers County, GPS RWY 12, Orig, CANCELLED

Bonham, TX, Jones Field, RNAV RWY 17 ,Orig

La Grange, TX, Fayette Regional Air Center, RNAV RWY 16, Orig

La Grange, TX, Fayette Regional Air Center, RNAV RWY 34, Orig

Liberty, TX, Liberty Muni, RNAV RWY 16, Orig

Liberty, TX, Liberty Muni, GP RWY 16, Orig, CANCELLED

Livingston, TX, Livingston Muni, RNAV RWY 30, Orig

Livingston, TX, Livingston Muni, GPS RWY 30, Orig, CANCELLED

Lufkin, TX, Angelina County, RNAV RWY 25, Orig

Lufkin, TX, Angelina County, GPS RWY 24, Orig, CANCELLED

Lufkin, TX, Angelina County, RNAV RWY 33, Orig

Lufkin, TX, Angelina County, GPS RWY 33, Orig, CANCELLED

Nacogdoches, TX, A L Mangham Jr Regional, RNAV RWY 15, Orig

Nacogdoches, TX, A L Mangham Jr Regional, RNAV RWY 18, Orig

Nacogdoches, TX, A L Mangham Jr Regional, GPS RWY 15, Orig, CANCELLED

Nacogdoches, TX, A L Mangham Jr Regional, GPS RWY 18, Orig, CANCELLED

Palestine, TX, Palestine Muni, RNAV RWY 35, Orig

Palestine, TX, Palestine Muni, GPS RWY 35, Orig, CANCELLED

Seminole, TX, Gaines County, RNAV RWY 35, Orig

Norfolk, VA, Norfolk Intl, RNAV RWY 23, Orig

[FR Doc. 00-23678 Filed 9-13-00; 8:45 am]

BILLING CODE 4910-13-M